DEPARTMENT OF DEFENSE

Department of the Army; Corps of Engineers

Intent To Prepare a Draft Programmatic Environmental Impact Statement for Community Relocation, Newtok, AK

Correction

In notice document 05-7607 beginning on page 20113 in the issue of Monday, April 18, 2005, make the following corrections:

1. On page 20114, in the second column, in the first line, “Nightmure” should read “Nightmute.”

2. On the same page, in the same column, in the last paragraph, in the 12th line, “releast” should read “release.”

[FR Doc. C5-7607 Filed 4-21-05; 8:45 am]

BILLING CODE 1505-01-D